DEPARTMENT OF DEFENSE

Office of the Secretary

[Transmittal No. 24-0E]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b)(5)(C) arms sales notification is published to fulfill the requirements of section 155 of Public Law 104-164 dated July 21, 1996. The following is a copy of a letter to the Speaker of the House of Representatives with attached Transmittal 24-0E.

Dated: November 13, 2025.
Aaron T. Siegel,
Alternate OSD Federal Register Liaison Officer, Department of Defense.

Transmittal No. 24-0E

Report of Enhancement or Upgrade of Sensitivity of Technology or Capability (Sec. 36(B)(5)(C), AECA)

(i) Purchaser: Government of Israel

(ii) Sec. 36(b)(1), AECA Transmittal No.: 08-83

Date: September 26, 2008

Implementing Agency: Air Force

Funding Source: Foreign Military Financing

(iii) Description: On September 26, 2008, Congress was notified by congressional certification transmittal number 08-83 of the possible sale, under Section 36(b)(1) of the Arms Export Control Act, of an initial 25 F-35 Joint Strike Fighter Conventional Take-Off and Landing (CTOL) aircraft with an option to purchase at a later date an additional 50 F-35 CTOL or Short Take-Off and Vertical Landing (STOVL) aircraft. All aircraft would be configured with either the Pratt and Whitney F-135 engines or General Electric-Rolls Royce F-136 engines. Other Aircraft Equipment included: Electronic Warfare Systems; Command, Control, Communication, Computers and Intelligence/Communication, Navigational and Identification (C4I/CNI); Autonomic Logistics Global Support System (ALGS); Autonomic Logistics Information System (ALIS); Flight Mission Trainer; Weapons Employment Capability, and other Subsystems, Features, and Capabilities; F-35 unique infrared flares; unique systems or sovereign requirements; reprogramming center, Hardware/Software In-the-Loop Laboratory Capability; External Fuel Tanks; and F-35 Performance Based Logistics. Also included: software development/integration, flight test instrumentation, aircraft ferry and tanker support, support equipment, tools and test equipment, spares and repair parts, personnel training and training equipment, publications and technical documents, U.S. Government and contractor engineering and logistics personnel services, and other related elements of logistics and program support. Non-MDE included: software development/integration, flight test instrumentation, aircraft ferry and tanker support, support equipment, tools and test equipment, spares and repair parts, personnel training and training equipment, publications and technical documents, U.S. Government and contractor engineering and logistics personnel services, and other related elements of logistics and program support. The estimated total cost was $15.2 billion. Major Defense Equipment (MDE) constituted $8.3 billion of this total.

This transmittal notifies the inclusion of the following additional MDE items: seven (7) Pratt and Whitney F-135 engines (spares). This transmittal clarifies that the original notification of up to seventy-five (75) F-35s included the sale of up to seventy-five (75) Pratt and Whitney F-135 or General Electric-Rolls Royce F-136 engines. The total value of the additional MDE is $96.6 million; the total MDE value will remain $8.3 billion. Non-MDE value will remain at $6.9 billion. The estimated total cost will remain at $15.2 billion.

(iv) Significance: This notification is being provided as the additional MDE items were not enumerated in the original notification. The proposed sale of this equipment will provide Israel sufficient spare engines to support the overall F-35 spares concept.

(v) Justification: The United States is committed to the security of Israel, and it is vital to U.S. national interests to assist Israel to develop and maintain a strong and ready self-defense capability. This proposed sale is consistent with those objectives.

(vi) Sensitivity of Technology: The Sensitivity of Technology Statement contained in the original notification applies to items reported here.

The highest level of classification of defense articles, components, and services included in this potential sale is SECRET.

(vii) Date Report Delivered to Congress: August 1, 2024

[FR Doc. 2025-20033 Filed 11-17-25; 8:45 am]

BILLING CODE 6001-FR-P